FEDERAL EMERGENCY MANAGEMENT AGENCY

Notice of Intent To Implement a Pilot Inspection Procedure of Insured Structures Under the National Flood Insurance Program

AGENCY: Federal Emergency Management Agency (FEMA).

ACTION: Notice of intent.

SUMMARY: We, FEMA, give notice that we will implement the pilot inspection procedure for Monroe County, Florida, and the Village of Islamorada, located in Monroe County, under the National Flood Insurance Program (NFIP). We established the pilot inspection procedure and the criteria for implementing the procedure by a rule published on June 27, 2000 in the Federal Register.

DATES: The starting date for the inspection procedure is January 1, 2001 for Monroe County and the Village of Islamorada. The termination date for Monroe County is December 31, 2007. The termination date for the Village of Islamorada is January 1, 2004.

FOR FURTHER INFORMATION CONTACT: Donald Beaton, Federal Emergency Management Agency, Federal Insurance Administration, 500 C Street SW., Washington, DC 20472, (202) 646-4327, (email) donald.beaton@fema.gov, or Lois Forster, Federal Emergency Management Agency, Mitigation Directorate, 500 C Street SW., Washington, DC 20472, (202) 646-2720, (facsimile) (202) 646-2577, (email) lois.forster@fema.gov.

SUPPLEMENTARY INFORMATION: We established the pilot inspection procedure and the criteria to implement it under 44 CFR 59.30 in a final rule published in the Federal Register on June 27, 2000, 65 FR 39726. We established the procedure: (1) To help the communities of Monroe County and the Village of Islamorada verify that structures comply with the community's floodplain management ordinance; and (2) to ensure that property owners pay flood insurance premiums to the NFIP commensurate with their flood risk. The inspection procedure requires owners of insured buildings to obtain an inspection from community officials and to submit a Community Inspection Report as a condition of renewing the Standard Flood Insurance Policy on the building.

The community inspection procedure applies only to insured post-FIRM (Flood Insurance Rate Map) buildings located in the Special Flood Hazard Areas of the communities participating in the inspection procedure.

The final rule requires the Associate Director for Mitigation and the Federal Insurance Administrator to establish the starting and termination dates for the pilot inspection procedure based on the recommendation of the Regional Director. The Regional Director has consulted with each community. The final rule further requires that before the inspection procedure starts the Associate Director and the Federal Insurance Administrator must publish a notice in the Federal Register that the communities will undertake the inspection procedure, stating the purpose and effective time that the pilot inspection procedure will cover. Each community must also publish a similar notice in a prominent local newspaper and publish other notices as appropriate.

The starting date for the inspection procedure for Monroe County and the Village of Islamorada is January 1, 2001. For Monroe County, the termination date is December 31, 2007 and for the Village of Islamorada, the termination date is January 1, 2004.

After the starting date, the insurers will send endorsements to the Standard Flood Insurance Policy to policyholders notifying all policyholders in the two communities that we may require them to obtain a community inspection as a condition of renewing the Standard Flood Insurance Policy. All new and renewed policies effective February 15, 2001 and thereafter must contain the endorsement, which we established in the final rule.

For insured buildings that the community identifies as possible violations of the community's floodplain management ordinance, the insurer will send a subsequent notice to the policyholder six months before the flood insurance policy renewal date. We anticipate that the insurers will start sending the six-month notice August 15, 2001 and thereafter. The insurer will send a reminder notice with the renewal bill approximately 45 days before the policy renewal date.

If a policyholder receives a notice requiring a community inspection as a condition of renewing their Standard Flood Insurance Policy, the following conditions apply:

(1) If the policyholder obtains an inspection from the community and the policyholder sends the community inspection report and premium to the insurer as part of the renewal process, the insurer will renew the policy and will verify the flood insurance rate; or

(2) If the policyholder does not obtain and submit a community inspection report the insurer will not renew the policy.

For insured post-FIRM buildings that the community inspects and determines to violate the community's floodplain management regulations, the community must demonstrate that it is undertaking measures to remedy the violation to the maximum extent possible.

A major goal of the NFIP is to reduce flood losses by implementing floodplain management regulations that protect new and substantially improved construction in floodprone areas from flood damages. Community adoption and enforcement of a floodplain management ordinance is critical in protecting a building from future flood damages, in reducing taxpayer funded disaster assistance, and in keeping flood insurance rates affordable.

Dated: December 22, 2000.
James L. Witt,
Director.

[FR Doc. 00-33175 Filed 12-27-00; 8:45 am]

BILLING CODE 6718-05-P